COMMITTEE FOR PURCHASE FROM PEOPLE WHO ARE BLIND OR SEVERELY DISABLED

Procurement List; Proposed Additions and Deletions

ACTION: Proposed Additions to and Deletions from the Procurement List.

SUMMARY: The Committee is proposing to add to the Procurement List products and services to be furnished by nonprofit agencies employing persons who are blind or have other severe disabilities, and to delete products and a service previously furnished by such agencies.

Comments Must Be Received On Or Before: February 24, 2008.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Kimberly M. Zeich, Telephone: (703) 603-7740, Fax: (703) 603-0655, or e-mail CMTEFedReg@jwod.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

Paper, Xerographic (Chlorine Free)

NSN: 7530-01-503-8441—8½″ x 11″.

NPA: Louisiana Association for the Blind, Shreveport, LA.

Coverage: the remaining General Services Administration (Burlington, NJ depot) requirement. A-list for the total Government Requirement as specified by the General Services Administration.

Contracting Activity: General Services Administration, Office Supplies & Paper Products Acquisition Ctr, New York, NY.

SKILCRAFT Wide Angle Broom

NSN: M.R. 1041.

NPA: L.C. Industries For The Blind, Inc., Durham, NC.

Coverage: C-List for the requirements of the Defense Commissary Agency, Fort Lee, VA.

Contracting Activity: Defense Commissary Agency (DeCA), Fort Lee, VA.

Services

Service Type/Location: Custodial Services, Border Patrol Station, Customs and Border Protection (CBP), 135 Trippany Road, Massena, NY.

NPA: St. Lawrence County Chapter, NYSARC, Canton, NY.

NPA: Employment Source, Inc., Fayetteville, NC.

Contracting Activity: U.S. Department of Homeland Security, Washington, DC.

Service Type/Location: Grounds Maintenance, Fort Jackson, Fort Jackson, SC.

NPA: Employment Source, Inc., Fayetteville, NC.

Contracting Activity: Army Contracting Agency, Fort Jackson, SC.

Service Type/Location: Grounds Maintenance, Janitorial & Facility Maintenance Services, Loyalhanna & Conemaugh Dam, 400 Loyalhanna Dam Road, Saltsburgh, PA.

NPA: The Burnley Workshop of the Poconos, Inc., Stroudsburg, PA.

Contracting Activity: U.S. Army Corps of Engineers—Pittsburgh District, Pittsburgh, PA.

Service Type/Location: Mail Support Services, Bureau of Public Debt, 200 Third Street, Parkersburg, WV.

NPA: ServiceSource, Inc., Alexandria, VA.

Contracting Activity: Department of the Treasury, Bureau of Public Debt, Parkersburg, WV.

Service Type/Location: Mailroom Operations, Internal Revenue Service, 300 E 8th Street & 9430 Research Blvd, Austin, TX.

NPA: Austin Task, Inc., Austin, TX.

NPA: ServiceSource, Inc., Alexandria, VA (PRIME CONTRACTOR).

Contracting Activity: U.S. Department of the Treasury, Internal Revenue Service Headquarters, Oxon Hill, MD.

Service Type/Location: Base Supply Center, Fort Irwin, CA.

NPA: The Lighthouse for the Blind, Inc. (Seattle Lighthouse), Seattle, WA.

Contracting Activity: Department of the Army, National Training Center Acquisition Command, Fort Irwin, CA.

Service Type/Location: Grounds Maintenance, Marine Corps Air Station, New River, Camp Greiger and Camp Johnson, Jacksonville, NC.

NPA: Coastal Enterprises of Jacksonville, Inc., Jacksonville, NC.

Contracting Activity: Naval Facilities Engineering Command (NAVFAC) Mid-Atlantic, Camp Lejeune, NC.

Service Type/Location: Food Service Attendant, Naval Station Mayport (Basewide), Mayport, FL.

NPA: Goodwill Industries of North Florida (GINFL) Services, Inc., Jacksonville, FL.

Contracting Activity: Fleet and Industrial Supply Center—Jacksonville, Jacksonville, FL.

Deletions

Regulatory Flexibility Act Certification

I certify that the following action will not have a significant impact on a substantial number of small entities. The major factors considered for this certification were:

1. If approved, the action should not result in additional reporting, recordkeeping or other compliance requirements for small entities.

2. If approved, the action may result in authorizing small entities to furnish the products and service to the Government.

3. There are no known regulatory alternatives which would accomplish the objectives of the Javits-Wagner-O'Day Act (41 U.S.C. 46-48c) in connection with the products and service proposed for deletion from the Procurement List.

Comments on this certification are invited. Commenters should identify the statement(s) underlying the certification on which they are providing additional information.

End of Certification

The following products and service are proposed for deletion from the Procurement List:

Products

Aloud Digital Audio Labeling System

NSN: 6515-00-NIB-0226.

NPA: Central Association for the Blind & Visually Impaired, Utica, NY.

Contracting Activity: Veterans Affairs National Acquisition Center, Hines, IL.

PRC Deck Recoating System

NSN: 8010-00-NIB-0012

NPA: Alphapointe Association for the Blind, Kansas City, MO.

Contracting Activity: Fleet and Industrial Supply Center, Bremerton, WA.

Service

Service Type/Location: Janitorial/Custodial, Social Security Administration Building, 2700 N. Knoxville Avenue, Peoria, IL.

NPA: Community Workshop and Training Center, Inc., Peoria, IL.

Contracting Activity: General Services Administration, Public Buildings Service, Region 5, Springfield, IL.

Kimberly M. Zeich,
Director, Program Operations.

[FR Doc. E8-1336 Filed 1-24-08; 8:45 am]

BILLING CODE 6353-01-P